DEPARTMENT OF COMMERCE

National Oceanic and Atmospheric Administration

RIN 0648-XE646

Conclusion of National Marine Fisheries Service International Trade Data System Tests Concerning the Electronic Submission of Certain Data Required for Fish Imports and Exports

AGENCY: National Marine Fisheries Service (NMFS), National Oceanic and Atmospheric Administration (NOAA), Commerce.

ACTION: Notice.

SUMMARY: U.S. Customs and Border Protection (CBP) and the National Marine Fisheries Service (NMFS) previously announced tests under the National Customs Automation Program (NCAP) concerning the electronic transmission of certain data for NMFS-regulated commodities through the Automated Commercial Environment (ACE) and through the Automated Export System (AES). The tests included electronic data submission for imports (published in the Federal Register on June 5, 2015) and for exports (published in the Federal Register on June 3, 2016).

During the imports test, entry filers were able to use the Automated Broker Interface (ABI) and the Document Image System (DIS) to transmit the NMFS Partner Government Agency (PGA) message data and forms required for NMFS to make admissibility determinations for entries subject to the monitoring programs for tunas, swordfish and toothfish, under the Highly Migratory Species International Trade Program (HMS), the Antarctic Marine Living Resources Trade Monitoring Program (AMR), and the Tuna Tacking and Verification Program (TTVP). During the exports test, exporters were able to use the Automated Export System (AES) and the DIS to transmit the NMFS PGA data and forms required for NMFS to collect required information on exports subject to these same trade monitoring programs.

It has been determined that ACE and AES are capable of accepting NMFS-regulated electronic entries. NMFS regulations effective on September 20, 2016 (published on August 3, 2016) will require the use of ACE or AES, as applicable, for electronic filings of regulated imports or exports of fish products. Accordingly, CBP and NMFS announce that the NCAP tests are ending on September 20, 2016. All importers and exporters of fish products regulated by NMFS are encouraged to use ACE or AES, as applicable, for their electronic filings in advance of September 20, 2016, when such filings will become mandatory.

DATES: The NMFS ACE and AES tests conclude on September 20, 2016. ACE entries and AES export declarations for NMFS-regulated products may be continued until the conclusion of the tests. For NMFS regulated fishery products, use of ACE and AES to file electronically is required beginning September 20, 2016.

FOR FURTHER INFORMATION CONTACT: For technical questions related to the Automated Commercial Environment (ACE), ABI transmissions, or AES, contact your assigned CBP client representative. Interested parties without an assigned client representative should direct their questions to Steven Zaccaro at steven.j.zaccaro@cbp.dhs.gov. For PGA reporting related questions, contact Emi Wallace (CBP) at mailto:emi.r.wallace@cbp.dhs.gov and for NMFS program related questions contact Dale Jones (NMFS) at dale.jones@noaa.gov.

SUPPLEMENTARY INFORMATION:

Background

I. The National Customs Automation Program (NCAP)

NCAP was established in Subtitle B of Title VI—Customs Modernization, in the North American Free Trade Agreement Implementation Act (Pub. L. 103-182, 107 Stat. 2057, 2170, December 8, 1993) (Customs Modernization Act). See 19 U.S.C. 1411. Through NCAP, the initial thrust of customs modernization was on trade compliance and the development of ACE, the planned successor to the Automated Commercial System (ACS). ACE is an automated and electronic system for commercial trade processing which is intended to streamline business processes, facilitate growth in trade, ensure cargo security, and foster participation in global commerce, while ensuring compliance with U.S. laws and regulations and reducing costs for CBP and all of its communities of interest. The ability to meet these objectives depends on successfully modernizing CBP's business functions and the information technology that supports those functions.

CBP's modernization efforts are accomplished through phased releases of ACE and AES component functionalities. Each release begins with a test and ends with mandatory use of the new ACE or AES features. Each release builds on previous releases and sets the foundation for subsequent releases. ABI and AES allow participants to electronically file required import and export data, respectively, with CBP and transfer that data into ACE.

II. International Trade Data System

The NMFS import and export tests were conducted in furtherance of the ITDS, which is statutorily authorized by section 405 of the Security and Accountability for Every (SAFE) Port Act of 2006, Public Law 109-347. The purpose of ITDS, as set forth in section 405 of the SAFE Port Act of 2006, is to eliminate redundant information filing requirements, efficiently regulate the flow of commerce, and effectively enforce laws and regulations relating to international trade, by establishing a single portal system, operated by CBP, for the collection and distribution of standard electronic import and export data required by all participating Federal agencies.

III. Conclusion of the NMFS PGA Message Set and DIS Tests

Through this notice, CBP and NMFS announce that ACE and AES are capable of accepting required data and/or forms related to electronically filed entries of NMFS regulated commodities via the NMFS PGA Message Set (for imports), in AES Trade Interface Requirements (AESTIR) or American National Standards Institute (ANSI) X12, or in ACE AESDirect using an ACE portal, bulk upload or weblink (for exports) and the DIS. CBP encourages all importers of fish products regulated by NMFS to now use ACE or AES, as applicable, for their electronic filings. Making the transition to ACE and AES now will benefit the filing community when ACE and AES become the NMFS and CBP authorized EDI system for these filings as of September 20, 2016.

IV. Transition to Use of ACE for Imports and Exports

On February 29, 2016, CBP published a notice in the Federal Register (81 FR 10264) announcing that, starting on March 31, 2016, CBP would begin decommissioning the Automated Commercial System (ACS) for certain entry and entry summary filings, making ACE the sole CBP-authorized EDI system for processing those electronic filings. CBP explained that the PGA Message Set and DIS pilots would be concluded on a rolling basis and that, as each pilot was concluded, ACE would become the sole CBP-authorized EDI system for electronic entry and entry summary filings for merchandise subject to the specified PGA import requirements and that merchandise subject to the specified PGA import requirements would no longer be permitted in ACS. In the case of NMFS, no PGA data was previously collected via ACS, so ACE implementation for these commodities is an important step in the NMFS effort to collect import data electronically.

Subsequently, CBP published a notice in the Federal Register (81 FR 32339, May 23, 2016) announcing that, effective July 23, 2016, CBP will decommission ACS for most entry and entry summary filings, making ACE the sole CBP-authorized EDI system for processing those electronic filings. As of July 23, 2016, electronic entry filings for NMFS-regulated fishery products were no longer accepted in ACS.

With respect to exports and electronic filing within ITDS, the Bureau of the Census issued a proposed rule on March 9, 2016 (81 FR 12423) to amend regulations pertaining to export requirements. In that notice of proposed rulemaking, Census explained how the AES was being integrated into ACE consistent with the “single window” concept of ITDS, as required by the SAFE Port Act. Comments submitted on that proposed rule may be viewed in the rulemaking docket: https://www.regulations.gov/docket?D=USBC-2016-0001.

VI. Process Changes

Although CBP and NMFS are concluding the NCAP tests, importers and exporters are encouraged to continue filing in ACE or AES, as applicable, in advance of the September 20, 2016 transition date for mandatory ACE and AES filings as recently announced by NMFS.

In December 2015, NMFS published a proposed rule that would require submission of the import and exports data and forms through ACE/AES. See 80 FR 81251 (December 29, 2015). For imports, these data elements and forms are set forth in the supplemental Customs and Trade Automated Interface Requirements (CATAIR) guidelines for NMFS. These specifications, including the CATAIR chapters can be found at the following link: http://www.cbp.gov/trade/ace/catair. For exports, the CBP Web page that contains the primary information on export requirements is: https://www.cbp.gov/trade/aes. Details on how to submit export data via AES are available at: https://www.cbp.gov/trade/aes/aestir/introduction-and-guidelines.

NMFS published a final rule on August 3, 2016 (81 FR 51126) to require electronic entry and/or export filings in ACE/AES for fish and fish products subject to permitting, reporting and recordkeeping requirements under these three programs: Highly Migratory Species International Trade Program (HMS), Antarctic Marine Living Resources Trade Monitoring Program (AMR), and the Tuna Tacking and Verification Program (TTVP). Importers, exporters, shippers and customs brokers should note that the NMFS final rule, effective September 20, 2016, requires ACE or AES electronic filings for imports and exports, respectively, including the message set, International Fisheries Trade Permit (IFTP) check, and DIS submissions.

For information regarding imports of fish products regulated by NMFS and the data elements, forms and documentation required by NMFS, importers and customs brokers should consult the ITDS implementation guidelines for NMFS at: https://www.cbp.gov/document/guidance/nmfs-pga-message-set-guidelines. For exports, the PGA record formats are listed at: https://www.cbp.gov/document/guidance/aestir-draft-appendix-q-pga-record-formats. The Appendix Q Record Layout Key provides details how each record should be structured: https://www.cbp.gov/document/guidance/appendix-q-record-layout-key.

NMFS Office of International Affairs and Seafood Inspection will host two public webinar meetings on August 18, 2016 and September 1, 2016, 2:30 p.m.-4:00 p.m. Eastern, to inform interested stakeholders about this regulation and its implementation. Instructions on how to join the webinars are provided at the following internet link: http://www.nmfs.noaa.gov/ia/slider_stories/2016/07/08022016_itds_final_rule.html.

Dated: August 10, 2016.
John Henderschedt,
Director, Office for International Affairs and Seafood Inspection, National Marine Fisheries Service.

[FR Doc. 2016-19458 Filed 8-15-16; 8:45 am]

BILLING CODE 3510-22-P